DEPARTMENT OF LABOR

Employment and Training Administration

[TA-W-37,709]

The Boeing Company, St. Louis, Missouri; Dismissal of Application for Reconsideration

Pursuant to 29 CFR 90.18(C) an application for administrative reconsideration was filed with the Director of the Division of Trade Adjustment Assistance for workers at The Boeing Company, St. Louis, Missouri. The application contained no new substantial information which would bear importantly on the Department's determination. Therefore, dismissal of the application was issued.

TA-W-37,709; The Boeing Company St. Louis, Missouri (October 10, 2000).

Signed at Washington, D.C. this 11th day of October, 2000.
Linda G. Poole,
Acting Director, Division of Trade Adjustment Assistance.

[FR Doc. 00-26720 Filed 10-17-00; 8:45 am]

BILLING CODE 4510-30-M